DEPARTMENT OF COMMERCE

Foreign-Trade Zones Board

[Docket 20-2009]

Foreign-Trade Zone 29; Application for Subzone Authority; Dow Corning Corporation; Extension of Rebuttal Period

Based on a request from Dow Corning Corporation (Dow Corning), the rebuttal period on the preliminary recommendation for the application for subzone status at the Dow Corning facilities in Carrollton, Elizabethtown and Shepherdsville, Kentucky (75 FR 31763, 6/3/2010) is being extended to October 1, 2010 to allow additional time for the submission of rebuttal comments. Original submissions shall be sent to the Board's Executive Secretary at: Foreign-Trade Zones Board, U.S. Department of Commerce, Room 2111, 1401 Constitution Ave., NW., Washington, DC 20230. An electronic copy shall be submitted to ftz@trade.gov.

For further information, contact Elizabeth Whiteman at Elizabeth.Whiteman@trade.gov or (202) 482-0473.

Dated: August 24, 2010.
Andrew McGilvray,
Executive Secretary.

[FR Doc. 2010-21571 Filed 8-27-10; 8:45 am]

BILLING CODE P